DEPARTMENT OF COMMERCE

International Trade Administration

[A-570-848]

Freshwater Crawfish Tail Meat From the People's Republic of China: Final Results of Antidumping Duty Administrative Review and New Shipper Reviews; 2016-2017

AGENCY: Enforcement and Compliance, International Trade Administration, Department of Commerce.

SUMMARY: The Department of Commerce (Commerce) determines that certain exporters subject to this administrative review and new shipper reviews did not make sales of subject merchandise at less than normal value.

DATES: Applicable February 7, 2019.

FOR FURTHER INFORMATION CONTACT: Jacob Keller and Bryan Hansen, AD/CVD Operations, Office I, Enforcement and Compliance, International Trade Administration, U.S. Department of Commerce, 1401 Constitution Avenue NW, Washington, DC 20230; telephone: (202) 482-4849 and (202) 482-3683, respectively.

SUPPLEMENTARY INFORMATION:

Background

On November 28, 2017, Commerce aligned the new shipper reviews with the administrative review.¹ On October 16, 2018, we published the preliminary results of the administrative review and new shipper reviews of the antidumping duty order on freshwater crawfish tail meat from the People's Republic of China (China) covering the period of review (POR) September 1, 2016, through August 31, 2017.² We gave interested parties an opportunity to comment on the Preliminary Results. We received no comments. Hence, these final results are unchanged from the Preliminary Results. Commerce conducted these reviews in accordance with section 751(a)(1)(B) and (2) of the Tariff Act of 1930, as amended (the Act).

¹ See Memorandum, “Alignment of New Shipper Reviews of Freshwater Crawfish Tail Meat from the People's Republic of China with the Concurrent Administrative Review of Freshwater Crawfish Tail Meat from the People's Republic of China,” dated November 28, 2017.

² See Freshwater Crawfish Tail Meat from the People's Republic of China: Preliminary Results of Antidumping Duty Administrative Review and New Shipper Reviews, and Rescission of Review in Part; 2016-2017, 83 FR 52201 (October 16, 2018) (Preliminary Results), and accompanying Preliminary Decision Memorandum.

Commerce exercised its discretion to toll all deadlines affected by the partial federal government closure from December 22, 2018, through the resumption of operations on January 29, 2019.³ If the new deadline falls on a non-business day, in accordance with Commerce's practice, the deadline will become the next business day. The revised deadline for these final results of reviews is now March 25, 2019.

³ See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The product covered by the antidumping duty order is freshwater crawfish tail meat, in all its forms (whether washed or with fat on, whether purged or un-purged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the HTSUS numbers for prepared foodstuffs, indicating peeled crawfish tail meat and other, as introduced by U.S. Customs and Border Protection (CBP) in 2000, and HTSUS numbers 0306.19.00.10 and 0306.29.00.00, which are reserved for fish and crustaceans in general. On February 10, 2012, Commerce added HTSUS classification number 0306.29.01.00 to the scope description pursuant to a request by CBP. On September 21, 2018, Commerce added HTSUS classification numbers 0306.39.0000 and 0306.99.0000 to the scope description pursuant to a request by CBP. The HTSUS subheadings are provided for convenience and customs purposes only. The written description of the scope of the order is dispositive.

Final Determination of No Shipments

Commerce preliminarily found that China Kingdom (Beijing) Import & Export Co., Ltd., Hubei Qianjiang Huashan Aquatic Food and Product Co., Ltd., and Nanjing Gemsen International Co., Ltd., which have been eligible for separate rates in previous segments of the proceeding and are subject to this administrative review, did not have any reviewable entries of subject merchandise during the POR.⁴ After the Preliminary Results, we received no comments or additional information with respect to these three companies. Therefore, for the final results, we continue to find that these three companies did not have any reviewable entries of subject merchandise during the POR. Consistent with our practice, we will issue appropriate instructions to U.S. Customs and Border Protection (CBP) based on our final results.

⁴ See Preliminary Results, 83 FR at 52202 n.4.

Separate Rates

Commerce preliminarily determined that seven respondents are eligible to receive separate rates in this administrative review.⁵ We made no changes to these determinations for the final results.

⁵ Id. at 52202, and accompanying Preliminary Decision Memorandum at 8-11.

Analysis of Comments Received

As stated above, we received no comments on the Preliminary Results.

Changes Since the Preliminary Results

We made no revisions to the Preliminary Results.

Final Results of Administrative Review

As a result of this administrative review, Commerce determines that the following weighted-average dumping margins exist for the period September 1, 2016, through August 31, 2017:

Exporter | Weighted- average margin (percent)
Hubei Nature Agriculture Industry Co., Ltd | 0.00
Weishan Hongda Aquatic Food Co., Ltd | 0.00
Xiping Opeck Food Co., Ltd | 0.00
Xuzhou Jinjiang Foodstuffs Co., Ltd | 0.00
Yancheng Hi-King Agriculture Developing Co., Ltd | 0.00

Final Results of New Shipper Reviews

As a result of the new shipper reviews, Commerce determines that the following dumping margins exist covering the period September 1, 2016, through August 31, 2017: ⁶

⁶ Commerce reached these conclusions based on the totality of the circumstances surrounding the reported sale for each company. See Preliminary Results, and accompanying Preliminary Decision Memorandum at 4-5 Bona Fides Analysis section.

Exporter | Producer | Weighted- average margin (percent)
Anhui Luan Hongyuan Foodstuffs Co., Ltd | Anhui Luan Hongyuan Foodstuffs Co., Ltd | 0.00
Kunshan Xinrui Trading Co., Ltd | Leping Yongle Food Co., Ltd | 0.00

Assessment

Pursuant to section 751(a)(2)(A) of the Act and 19 CFR 351.212(b), and the Final Modification for Reviews,⁷ Commerce intends to instruct CBP to liquidate without regard to antidumping duties all appropriate entries for respondents eligible for a separate rate. For all other companies, we will instruct CBP to apply the antidumping duty assessment rate of the China-wide entity, 223.01 percent, to all entries of subject merchandise exported by these companies.⁸ For the three companies that we determined had no reviewable entries of the subject merchandise in the administrative review period, any suspended entries that entered under that exporter's case number (i.e., at that exporter's rate) will be liquidated at the China-wide rate. We intend to issue assessment instructions to CBP 15 days after the date of publication of the final results of review.

⁷ See Antidumping Proceedings: Calculation of the Weighted-Average Dumping Margin and Assessment Rate in Certain Antidumping Duty Proceedings; Final Modification, 77 FR 8101, 8103 (February 14, 2012) (Final Modification for Reviews).

⁸ See Initiation of Antidumping and Countervailing Duty Administrative Reviews, 82 FR 52268, 52269 (November 13, 2017); see also Freshwater Crawfish Tail Meat from the People's Republic of China: Initiation of Antidumping Duty New Shipper Reviews, 82 FR 48482, 48483 (October 18, 2017).

Cash Deposit Requirements

The following cash deposit requirements will be effective upon publication of the final results of this administrative review for all shipments of the subject merchandise from China entered, or withdrawn from warehouse, for consumption on or after the publication date as provided by section 751(a)(2)(C) of the Act: (1) For subject merchandise exported by the companies listed above that have separate rates, the cash deposit rate will be the rate established in these final results of review for each exporter as listed above; (2) for previously investigated or reviewed Chinese and non-Chinese exporters not listed above that received a separate rate in a prior segment of this proceeding, the cash deposit rate will continue to be the exporter-specific rate; (3) for all Chinese exporters of subject merchandise that have not been found to be entitled to a separate rate, the cash deposit rate will be that for the China-wide entity; (4) for all non-Chinese exporters of subject merchandise which have not received their own rate, the cash deposit rate will be the rate applicable to the Chinese exporter that supplied that non-Chinese exporter.

With respect to Anhui Luan Hongyuan Foodstuffs Co., Ltd. (Anhui Luan) and Kunshan Xinrui Trading Co., Ltd. (Kunshan Xinrui), the respondents in the new shipper reviews, Commerce established a combination cash deposit rate for these companies consistent with its practice, as follows: (1) For subject merchandise produced and exported by Anhui Luan and for subject merchandise produced by Leping Yongle Food Co., Ltd. and exported by Kunshan Xinrui, the cash deposit rate will be the rate established in the final results of the new shipper reviews; (2) for subject merchandise exported by Anhui Luan but not produced by Anhui Luan and exported by Kunshan Xinrui but not produced by Leping Yongle Food Co., Ltd. the cash deposit rate will be the rate for the China-wide entity; and (3) for subject merchandise produced by Anhui Luan but not exported by Anhui Luan and for subject merchandise produced by Leping Yongle Food Co., Ltd. but not exported by Kunshan Xinrui the cash deposit rate will be the rate applicable to the exporter. These deposit requirements shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of the antidumping duties occurred and the subsequent assessment of doubled antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

These final results of administrative and new shipper reviews are issued and published in accordance with sections 751(a)(1) and 777(i) of the Act and 19 CFR 351.221(b)(5).

Dated: February 1, 2019.
Christian Marsh,
Deputy Assistant Secretary for Enforcement and Compliance.

[FR Doc. 2019-01478 Filed 2-6-19; 8:45 a.m.]

BILLING CODE 3510-DS-P